DEPARTMENT OF THE TREASURY

Privacy Act of 1974; System of Records

AGENCY: Treasury.

ACTION: Notice; correction.

SUMMARY: The Department of the Treasury published a document in the Federal Register of June 26, 2003, concerning the alteration of a Privacy Act system of records. The document added an incomplete routine use to the Privacy Act notice.

FOR FURTHER INFORMATION CONTACT: Dale Underwood, Privacy Act Officer, (202) 622-0874.

Correction

In notice document 03-16117 beginning on page 38111 in the issue of Thursday June 26, 2003, make the following correction: On page 38113, in the middle column, at the end of paragraph (17) insert the word “function” before the period “.”.

Dated: July 10, 2003.
W. Earl Wright, Jr.,
Acting Chief Management and Administrative Programs Officer.

[FR Doc. 03-18846 Filed 7-23-03; 8:45 am]

BILLING CODE 4810-25-P